DEPARTMENT OF COMMERCE

International Trade Administration

Notice of Scope Ruling Applications Filed in Antidumping and Countervailing Duty Proceedings

AGENCY: Enforcement and Compliance, International Trade Administration, Department of Commerce.

SUMMARY: The U.S. Department of Commerce (Commerce) received scope ruling applications, requesting that scope inquiries be conducted to determine whether identified products are covered by the scope of antidumping duty (AD) and/or countervailing duty (CVD) orders and that Commerce issue scope rulings pursuant to those inquiries. In accordance with Commerce's regulations, we are notifying the public of the filing of the scope ruling applications listed below in the month of June 2023.

DATES: Applicable August 3, 2023.

FOR FURTHER INFORMATION CONTACT: Terri Monroe, AD/CVD Operations, Customs Liaison Unit, Enforcement and Compliance, International Trade Administration, U.S. Department of Commerce, 1401 Constitution Avenue NW, Washington, DC 20230, telephone: (202) 482-1384.

SUPPLEMENTARY INFORMATION:

Notice of Scope Ruling Applications

In accordance with 19 CFR 351.225(d)(3), we are notifying the public of the following scope ruling applications related to AD and CVD orders and findings filed in or around the month of June 2023. This notification includes, for each scope application: (1) identification of the AD and/or CVD orders at issue (19 CFR 351.225(c)(1)); (2) concise public descriptions of the products at issue, including the physical characteristics (including chemical, dimensional and technical characteristics) of the products (19 CFR 351.225(c)(2)(ii)); (3) the countries where the products are produced and the countries from where the products are exported (19 CFR 351.225(c)(2)(i)(B)); (4) the full names of the applicants; and (5) the dates that the scope applications were filed with Commerce and the name of the ACCESS scope segment where the scope applications can be found.¹ This notice does not include applications which have been rejected and not properly resubmitted. The scope ruling applications listed below are available on Commerce's online e-filing and document management system, Antidumping and Countervailing Duty Electronic Service System (ACCESS), at https://access.trade.gov.

¹ See Regulations to Improve Administration and Enforcement of Antidumping and Countervailing Duty Laws, 86 FR 52300, 52316 (September 20, 2021) (Final Rule) (“It is our expectation that the Federal Register list will include, where appropriate, for each scope application the following data: (1) identification of the AD and/or CVD orders at issue; (2) a concise public summary of the product's description, including the physical characteristics (including chemical, dimensional and technical characteristics) of the product; (3) the country(ies) where the product is produced and the country from where the product is exported; (4) the full name of the applicant; and (5) the date that the scope application was filed with Commerce.”)

Scope Ruling Applications

Common Alloy Aluminum Sheet from the People's Republic of China (China) (A-570-073/C-570-074); Aluminum composite panel; ² produced in and exported from China; submitted by K-Tex LLC; June 1, 2023; ACCESS scope segment “K-Tex Composite Panel.”

² The product is aluminum composite panel composed of a thermoplastic core sandwiched between two aluminum alloy sheets. The thermoplastic core is made from low density polyethylene (LDPE) hardener and other accessory ingredients. The aluminum alloy is made from 1100 aluminum alloy as designated by the Aluminum Association. The aluminum alloy sheets are pre-coated with polyvinylidene fluoride (PVDF). The paint is further protected by peel-off protective sheeting. The panel comes in a variety of widths and lengths, normally ranging from 1220 mm to 1500mm in width and 2000mm to 6050mm in length. The panels come in two thicknesses: 3mm and 4mm. For the 3mm composite panel, the thickness of each aluminum alloy sheet is 0.21mm. For the 4mm composite panel, the thickness of each aluminum alloy sheet is 0.25mm.

Certain Aluminum Foil from China (A-570-053/C-570-054); Aluminum conductor foil; ³ produced in and exported from China; submitted by Instrument Transformers, LLC (Instrument Transformers); June 1, 2023; ACCESS scope segment “Capacitor Foil.”

³ The products are two types of aluminum capacitor foil: (1) pre-slit, annealed foil, and (2) master logs of unannealed foil. Both types are made with aluminum alloys with aluminum content above 99 percent, are 5 microns (0.005 mm or 0.00019 inch) thick, and are imported in reels greater than 25 pounds. Neither type is backed or cut-to-shape. Both types of aluminum capacitor foil at issue are used in high-voltage capacitors that are manufactured by Instrument Transformers in the United States and sold to GE Grid. Instrument Transformers uses the aluminum capacitor foil only for its conductivity properties, and not for its barrier, thermal, reflective, or insulation properties. The conductivity properties of the aluminum capacitor foil functions in the capacitors by conducting electricity.

Certain Carbon and Alloy Steel Threaded Rod from Taiwan (A-583-865); Certain steel headed studs; ⁴ produced in and exported from Taiwan; submitted by Composite Technologies International, Inc.; June 5, 2023; ACCESS scope segment “CTI Inc. Headed Studs.”

⁴ The products are four types of steel headed collar studs used to mount car side mirrors on automobiles. One side of the headed stud is anchored into the mirror and the other side is mounted on the automobile and attached using a nut. The steel headed studs are identified as part numbers 2003.1027CTI, 2012.0306, 1405307CTI, and 1448160CTI.

Certain Cased Pencils from China (A-570-827); Pencils; ⁵ produced in and exported from the Philippines; submitted by School Specialty, LLC; June 7, 2023; ACCESS scope segment “School Specialty.”

⁵ The products are three types of pencils: #2 pencils, drawing pencils, and colored pencils. The #2 pencils are made with graphite lead and basswood. The #2 pencils are painted in a variety of colors, and they are tipped with silver ferules and erasers. The drawing pencils are made with graphite lead and basswood, and the barrels are painted red and black. The drawing pencils are offered with different degrees of lead hardness (6B, 4B, 2B, B, HB, or 2H). The colored pencils are made of basswood and a 3.3mm wax/clay core. Each drawing pencil barrel is painted entirely in the color that corresponds to the core color.

Common Alloy Aluminum Sheet from Bahrain (A-525-001/C-525-002); Finished aluminum coil; ⁶ produced in Bahrain, further processed in Jordan, and exported from Jordan; submitted by FCC Metals LLC; June 12, 2023; ACCESS scope segment “FCC Metals LLC—Finished Aluminum Coil.”

⁶ The product is common alloy aluminum sheet that is imported on spools and measuring approximately 50 inches in width by 0.56 millimeters in thickness (sizes vary depending on U.S. customer specifications). The product is installed on buildings and houses as sheet metal roofing product.

Certain Carbon and Alloy Steel Threaded Rod from Taiwan (A-583-865); Certain non-circular headed studs; ⁷ produced in and exported from Taiwan; submitted by Component Technologies International, Inc.; June 30, 2023; ACCESS scope segment “CTI Inc. Headed Studs 2.”

⁷ The products are five types of non-circular headed collar studs, which are identified as part numbers AF027010, B34-6005, 5445362/CTI, 2003.2021, and HW100149. Part AF020710 is a headed square collar stud used to mount heavy truck suspensions to the truck frame. Part B34-6005 is a headed square/hex collar stud used to mount heavy truck bumpers to the frame of the truck. Part 54455362/CTI is a headed hex flange collar stud used to mount car side mirrors on automobiles. Part 2003.2021 is a headed hex collar stud used to mount car side mirrors on automobiles. Part HW100149 is a brass, headed hex collar stud used in the marine industry.

Notification to Interested Parties

This list of scope ruling applications is not an identification of scope inquiries that have been initiated. In accordance with 19 CFR 351.225(d)(1), if Commerce has not rejected a scope ruling application nor initiated the scope inquiry within 30 days after the filing of the application, the application will be deemed accepted and a scope inquiry will be deemed initiated the following day—day 31.⁸ Commerce's practice generally dictates that where a deadline falls on a weekend, Federal holiday, or other non-business day, the appropriate deadline is the next business day.⁹ Accordingly, if the 30th day after the filing of the application falls on a non-business day, the next business day will be considered the “updated” 30th day, and if the application is not rejected or a scope inquiry initiated by or on that particular business day, the application will be deemed accepted and a scope inquiry will be deemed initiated on the next business day which follows the “updated” 30th day.¹⁰

⁸ In accordance with 19 CFR 351.225(d)(2), within 30 days after the filing of a scope ruling application, if Commerce determines that it intends to address the scope issue raised in the application in another segment of the proceeding (such as a circumvention inquiry under 19 CFR 351.226 or a covered merchandise inquiry under 19 CFR 351.227), it will notify the applicant that it will not initiate a scope inquiry, but will instead determine if the product is covered by the scope at issue in that alternative segment.

⁹ See Notice of Clarification: Application of “Next Business Day” Rule for Administrative Determination Deadlines Pursuant to the Tariff Act of 1930, As Amended, 70 FR 24533 (May 10, 2005).

¹⁰ This structure maintains the intent of the applicable regulation, 19 CFR 351.225(d)(1), to allow day 30 and day 31 to be separate business days.

In accordance with 19 CFR 351.225(m)(2), if there are companion AD and CVD orders covering the same merchandise from the same country of origin, the scope inquiry will be conducted on the record of the AD proceeding. Further, please note that pursuant to 19 CFR 351.225(m)(1), Commerce may either apply a scope ruling to all products from the same country with the same relevant physical characteristics, (including chemical, dimensional, and technical characteristics) as the product at issue, on a country-wide basis, regardless of the producer, exporter, or importer of those products, or on a company-specific basis.

For further information on procedures for filing information with Commerce through ACCESS and participating in scope inquiries, please refer to the Filing Instructions section of the Scope Ruling Application Guide, at https://access.trade.gov/help/Scope_Ruling_Guidance.pdf. Interested parties, apart from the scope ruling applicant, who wish to participate in a scope inquiry and be added to the public service list for that segment of the proceeding must file an entry of appearance in accordance with 19 CFR 351.103(d)(1) and 19 CFR 351.225(n)(4). Interested parties are advised to refer to the case segment in ACCESS as well as 19 CFR 351.225(f) for further information on the scope inquiry procedures, including the timelines for the submission of comments.

Please note that this notice of scope ruling applications filed in AD and CVD proceedings may be published before any potential initiation, or after the initiation, of a given scope inquiry based on a scope ruling application identified in this notice. Therefore, please refer to the case segment on ACCESS to determine whether a scope ruling application has been accepted or rejected and whether a scope inquiry has been initiated.

Interested parties who wish to be served scope ruling applications for a particular AD or CVD order may file a request to be included on the annual inquiry service list during the anniversary month of the publication of the AD or CVD order in accordance with 19 CFR 351.225(n) and Commerce's procedures.¹¹

¹¹ See Scope Ruling Application; Annual Inquiry Service List; and Informational Sessions, 86 FR 53205 (September 27, 2021).

Interested parties are invited to comment on the completeness of this monthly list of scope ruling applications received by Commerce. Any comments should be submitted to James Maeder, Deputy Assistant Secretary for AD/CVD Operations, Enforcement and Compliance, International Trade Administration, via email to CommerceCLU@trade.gov.

This notice of scope ruling applications filed in AD and CVD proceedings is published in accordance with 19 CFR 351.225(d)(3).

Dated: July 28, 2023.
James Maeder,
Deputy Assistant Secretary for Antidumping and Countervailing Duty Operations.

[FR Doc. 2023-16533 Filed 8-2-23; 8:45 am]

BILLING CODE 3510-DS-P